DEPARTMENT OF HEALTH AND HUMAN SERVICES

Administration for Children and Families

Proposed Information Collection Activity; Testing Identified Elements for Success in Fatherhood Programs (0970-0622)

AGENCY: Office of Planning, Research, and Evaluation, Administration for Children and Families, Department of Health and Human Services.

ACTION: Request for public comments.

SUMMARY: The Administration for Children and Families (ACF) Office of Planning, Research, and Evaluation (OPRE) launched the Testing Identified Elements for Success in Fatherhood Programs (Fatherhood TIES) project in 2022. Using a mix of research methods, this study will test “core components” of fatherhood programs to identify program elements that are effective at improving the lives of fathers who participate in fatherhood programs and their children. The study includes an implementation and an impact study. A request for initial data collection materials was approved by the Office of Management and Budget in December 2023. This notice provides information about additional data collection activities to support this study.

DATES: Comments due July 23, 2024. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: Core components are the essential functions, principles, and elements that are judged as being necessary to produce positive outcomes. Fatherhood programs usually offer workshops and case management services for fathers to provide, for example, parenting strategies to strengthen their relationships with their children, help finding a steady job, skills to enhance their relationships, and support dealing with other life or family challenges they might experience. Five Fatherhood FIRE (Fatherhood—Family-focused, Interconnected, Resilient, and Essential) grant recipients are partnering with the Fatherhood TIES study team to participate in an implementation and impact study. The implementation study will examine how the core components are implemented and what fathers think of them. The impact study will rigorously evaluate whether promising core components bring about positive outcomes for fathers and their families which may include understanding effects of program engagement, economic stability, father-child relationship quality and co-parenting relationship quality.

Initial study (Phase 1) materials, including consent to participate in the study, additional baseline information from program participants, and initial implementation study data were approved and are in use by the study team. We are now requesting approval of Phase 2 data collection materials including semi-structured interviews, focus groups, and the participatory research methods of photo voice and audio journaling. Audio journaling and photo voice are participatory research methods that the study team will use with up to 60 fathers in total to generate information about how fathers are applying knowledge and skills gained through their participation in the fatherhood program.

Respondents: Fathers enrolled in the Fatherhood TIES study, co-parents of fathers enrolled, and program staff involved in supporting and implementing the Fatherhood TIES study.

Annual Burden Estimates

Data collection time frames vary by instrument. Instruments with a star (*) will be fielded in the first year. The follow-up survey is anticipated to continue into early 2027. Therefore, this request is for two and a half years of approval and annual burden estimates reflect this timeframe (total burden/2.5).

Instrument | Number of respondents (total over request period) | Number of responses per respondent (total over request period) | Average burden per response (in hours) | Total burden (in hours) | Annual burden (in hours)
Staff Interview (including consent) * | 50 | 2 | 1 | 100 | 40
Co-Parent Interview (including consent) * | 4 | 1 | 1 | 4 | 2
Father focus group (including consent) * | 80 | 1 | 1 | 80 | 32
Photo Voice (collection + focus group + debrief) * | 5 | 1 | 3.25 | 16 | 7
Audio Journaling (collection + debrief) * | 55 | 1 | 1 | 55 | 22
Nine-month Follow-up survey | 1369 | 1 | 0.75 | 1027 | 411
Photo Voice Training * | 5 | 1 | 2 | 10 | 4
Audio Journaling Training * | 55 | 1 | 0.5 | 28 | 11
Estimated Annual Burden Total |  |  |  |  | 529

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 413 of the Social Security Act, as amended by the fiscal year 2017 Consolidated Appropriations Act, 2017 (Pub. L. 115-31).

Mary C. Jones,
ACF/OPRE Certifying Officer.

[FR Doc. 2024-11393 Filed 5-23-24; 8:45 am]

BILLING CODE 4184-73-P